SECURITIES AND EXCHANGE COMMISSION

Sunshine Act Meeting

Notice is hereby given, pursuant to the provisions of the Government in the Sunshine Act, Public Law 94-409, that the Securities and Exchange Commission will hold an Open Meeting on March 30, 2015, at 10:30 a.m., in Room 10800 at the Commission's headquarters building, to hear oral argument in cross-appeals by Francis V. Lorenzo and the Division of Enforcement from an initial decision of an administrative law judge.

On December 31, 2013, the law judge found that Lorenzo violated the antifraud provisions of Section 17(a) of the Securities Act of 1933, Section 10(b) of the Securities Exchange Act of 1934, and Exchange Act Rule 10b-5 when he sent two potential investors emails containing false and misleading information about his firm's client. The law judge ordered Lorenzo to cease and desist from violations of the antifraud provisions, barred him from the securities industry, and ordered him to pay a civil money penalty of $15,000.

The issues likely to be considered at oral argument include whether Lorenzo violated the antifraud provisions as alleged and, if so, the extent to which he should be sanctioned for those violations.

The duty officer determined that no earlier notice thereof was possible. For further information, please contact the Office of the Secretary at (202) 551-5400.

Dated: March 24, 2015.
Brent J. Fields.
Secretary.

[FR Doc. 2015-07048 Filed 3-24-15; 4:15 pm]

BILLING CODE 8011-01-P